DEPARTMENT OF HOMELAND SECURITY

Transportation Security Administration

Intent To Request Approval From OMB of One Current Public Collection of Information: Screening Partnership Program

AGENCY: Transportation Security Administration, DHS.

ACTION: 60-day notice.

SUMMARY: The Transportation Security Administration (TSA) invites public comment on one currently approved Information Collection Request (ICR), Office of Management and Budget (OMB) control number 1652-0064, abstracted below, that we will submit to OMB for an extension in compliance with the Paperwork Reduction Act (PRA). The ICR describes the nature of the information collection and its expected burden. The collection involves an application completed by airport operators interested in using a qualified private screening company to perform security screening functions under a contract entered into with TSA instead of Federal employees.

DATES: Send your comments by December 23, 2024.

ADDRESSES: Comments may be emailed to TSAPRA@tsa.dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0064; Screening Partnership Program (SPP). TSA's SPP implements 49 U.S.C. 44920, which permits commercial airport operators to apply for a qualified private screening company, under contract with TSA, to provide passenger and baggage security screening services, rather than Federal employees. Under the SPP, an authorized representative of the airport operator or airport owner may submit a copy of the SPP application to the airport's Federal Security Director to begin the application process.

The application process is the initial notification to TSA of an airport operator's interest in opting out of security screening provided by TSA Federal employees. TSA will initially acknowledge receipt of the application, then provide an official response within 120 days from the date of acknowledgement.

The application collects the following information from each airport operator seeking to participate in SPP:

• Basic airport information: airport name, Federal Aviation Administration identifier, and airport operating authority.

• Authorized Requestor information: name, position, primary and alternate phone number, mailing address, and email address.

• An indication of whether or not the airport authority plans to provide its own private security screening services.

• A recommendation on which private screening company should perform the screening function and the basis for the recommendation.

• Information on any major activities scheduled to occur at the airport within the next 18 months that could impact the transition from Federal screening to private screening (for example, major construction).

• Optional information may be provided to support the consideration of their application.

The application contains no personally identifiable information, sensitive security information, or classified information, so no special handling or protection is required.

Twenty airports are currently participating in SPP. TSA estimates the annual burden for the information collection related to SPP is 30 minutes (0.50 hours). While TSA anticipates that only two airport operators will respond annually, the burden estimates presume that 10 or more airport operators could respond. The agency estimates that each respondent airport operator will spend approximately 15 minutes (.25) hour to complete the application for a total burden of 30 minutes (0.50 hours). TSA does not require the airport operators to maintain records of the application submission. If the airport operator chooses to do so, the estimated burden associated with this action is minimal.

Dated: October 21, 2024.
Christina A. Walsh,
TSA Paperwork Reduction Act Officer, Information Technology.

[FR Doc. 2024-24727 Filed 10-23-24; 8:45 am]

BILLING CODE 9110-05-P